DEPARTMENT OF HEALTH AND HUMAN SERVICES

National Institutes of Health

Notice of Intent To Prepare an Environmental Impact Statement and Notice of Scoping Meeting

AGENCY: National Institutes of Health, Department of Health and Human Services.

ACTION: Notice.

SUMMARY: In accordance with the National Environmental Policy Act, 42 U.S.C. 4321-4347, the National Institutes of Health (NIH) is issuing this notice to advise the public that an environmental impact statement will be prepared for the National Institutes of Health, Bethesda Campus Master Plan, Bethesda, Maryland.

DATES: The Scoping Meeting is planned for 6 p.m. on February 28th, 2012. Scoping comments must be postmarked no later than March 26, 2012 to ensure they are considered.

ADDRESSES: The Scoping Meeting will be held at 6001 Executive Plaza, Conference Room D, Bethesda, Maryland. All comments and questions on the Scoping Meeting and Environmental Impact Statement should be directed to Valerie Nottingham, Chief, Environmental Quality Branch, Division of Environmental Protection, Office of Research Facilities, NIH, B13/2S11, 9000 Rockville Pike, Bethesda, Maryland 20892, telephone (301) 496-7775; fax (301) 480-8056; or email nihnepa@mail.nih.gov.

FOR FURTHER INFORMATION CONTACT: Valerie Nottingham, Chief, Environmental Quality Branch, Division of Environmental Protection, Office of Research Facilities, NIH, B13/2S11, 9000 Rockville Pike, Bethesda, Maryland 20892, telephone (301) 496-7775; fax (301) 480-8056; or email nihnepa@mail.nih.gov.

SUPPLEMENTARY INFORMATION: NIH is the focal point of the federal government for health research and is one of the world's foremost biomedical research institutions. The NIH mission is to discover new knowledge that will lead to better health for all. To achieve that mission, nearly eighty percent of the total NIH budget is expended in the form of peer-reviewed, competitively awarded research grants, cooperative agreements, and contracts to nearly 50,000 principal investigators at more than 1,700 institutions across the country including universities, medical schools, and hospitals. In addition, some 2,000 research projects are conducted in the NIH intramural laboratories and at the NIH Clinical Center. Research is conducted at both the basic and clinical levels, encompassing studies related to the prevention, diagnosis, treatment and cure of the many diseases that afflict the men, women and children of the world. In addition, the basic research supported by NIH provides the foundation for the nation's pharmaceutical and biotechnology industries. As one measure of the agency's excellence in research, it should be noted that NIH-supported investigators won over 107 Nobel Prizes from 1939 to 2002.

A Master Plan is an integrated series of documents that present in graphic, narrative, and tabular form the current composition of NIH campuses and the plan for their orderly and comprehensive development over a 20-year period. The plan provides guidance in coordinating the physical development of NIH campuses, including building locations, utility capacities, road alignments, parking facilities, and the treatment of open spaces. General design guidelines are also used to provide detailed guidance for the placement and design of physical improvements.

The proposed action is to develop a long-range physical master plan for NIH. The plan will cover a 20-year planning period and address the future development of the NIH site, including placement of future construction; vehicular and pedestrian circulation; parking within the property boundaries; open space in and around the campus; required setbacks; historic properties; natural and scenic resources; noise; and lighting. The plan will examine potential growth in NIH personnel and consequent construction of space over the planning period. Future construction on the site could include such facilities as new animal holding, research laboratories, and support facilities.

In accordance with 40 CFR 1500-1508 and DHHS environmental procedures, NIH will prepare an Environmental Impact Statement (EIS) for the proposed master plan. The EIS will evaluate the impacts of the master plan should development occur as proposed. Among the items the EIS will examine are the implications of the master plan on community infrastructure, including, but not limited to, utilities, storm water management, traffic and transportation, and other public services. To ensure that the public is afforded the greatest opportunity to participate in the planning and environmental review process, NIH is inviting oral and written comments on the master plan and related environmental issues.

The NIH will be sponsoring a public Scoping Meeting to provide individuals an opportunity to share their ideas on the master planning effort, including recommended alternatives and environmental issues the EIS should consider. All interested parties are encouraged to attend. NIH has established a 45-day public comment period for the scoping process.

Dated: February 2, 2012.
Daniel G. Wheeland,
Director, Office of Research Facilities Development and Operations, National Institutes of Health.

[FR Doc. 2012-2921 Filed 2-7-12; 8:45 am]

BILLING CODE 4140-01-P